GENERAL SERVICES ADMINISTRATION

Governmentwide Per Diem Advisory Board

AGENCY: Office of Governmentwide Policy, GSA.

ACTION: Notice of meeting.

SUMMARY: Notice is hereby given that the Governmentwide Per Diem Advisory Board will hold an open meeting from 2:00 p.m. to 4:00 p.m. on Thursday, November 14, 2002. The meeting will be held at The Crystal City Marriott, 1999 Jefferson Davis Highway, Arlington, VA 22202. This meeting is open to the public. Members of the public who wish to file a written statement with the Board may do so in writing c/o Rob Miller, Designated Federal Officer (MTT), General Services Administration, 1800 F St., NW, Room G-219, Washington, DC 20405, or via e-mail at robl.miller@gsa.gov. Due to critical mission and schedule requirements, there is insufficient time to provide the full 15 calendar days' notice in the Federal Register prior to this meeting, pursuant to the final rule on Federal Advisory Committee management codified at 41 CFR 102-3.150.

Purpose: To review the current process and methodology that is used by GSA's Office of Governmentwide Policy to determine the per diem rates for destinations within the continental United States (CONUS). The Board will receive recommendations for improvements to the current process and methodology used to establish the federal per diem rates within CONUS, and receive best practice recommendations for developing a Governmentwide lodging program.

For security and building access: (1) ADA accessible facility; (2) Public seating may be limited.

FOR FURTHER INFORMATION CONTACT: Rob Miller, Designated Federal Officer, on (202) 501-4621, or Joddy Garner on (202) 501-4857, Per Diem Program Manager, General Services Administration. Also, inquiries may be sent to robl.miller@gsa.gov.

Dated: November 4, 2002.
Becky Rhodes,
Deputy Associate Administrator, Office of Transportation and Personal Property.

[FR Doc. 02-28510 Filed 11-6-02; 8:45 am]

BILLING CODE 6820-14-P